DEPARTMENT OF JUSTICE

Drug Enforcement Administration

[Docket No. DEA-1572]

Bulk Manufacturer of Controlled Substances Application: Chemtos, LLC

AGENCY: Drug Enforcement Administration, Justice.

ACTION: Notice of application.

SUMMARY: Chemtos, LLC has applied to be registered as a bulk manufacturer of basic class(es) of controlled substance(s). Refer to Supplementary Information listed below for further drug information.

DATES: Registered bulk manufacturers of the affected basic class(es), and applicants, therefore, may submit electronic comments on or objections to the issuance of the proposed registration on or before October 7, 2025. Such persons may also file a written request for a hearing on the application on or before October 7, 2025.

ADDRESSES: The Drug Enforcement Administration requires that all comments be submitted electronically through the Federal eRulemaking Portal, which provides the ability to type short comments directly into the comment field on the web page or attach a file for lengthier comments. Please go to https://www.regulations.gov and follow the online instructions at that site for submitting comments. Upon submission of your comment, you will receive a Comment Tracking Number. Please be aware that submitted comments are not instantaneously available for public view on https://www.regulations.gov. If you have received a Comment Tracking Number, your comment has been successfully submitted and there is no need to resubmit the same comment.

SUPPLEMENTARY INFORMATION: In accordance with 21 CFR 1301.33(a), this is notice that on July 4, 2025, Chemtos, LLC, 16713 Picadilly Court, Round Rock, Texas 78664-8544, applied to be registered as a bulk manufacturer of the following basic class(es) of controlled substance(s):

Controlled substance | Drug code | Schedule
Amineptine | 1219 | I
Mesocarb | 1227 | I
3-Fluoro-N-methylcathinone (3-FMC) | 1233 | I
Cathinone | 1235 | I
Methcathinone | 1237 | I
4-Fluoro-N-methylcathinone (4-FMC) | 1238 | I
Pentedrone (α-methylaminovalerophenone) | 1246 | I
Mephedrone (4-Methyl-N-methylcathinone) | 1248 | I
4-Methyl-N-ethylcathinone (4-MEC) | 1249 | I
Naphyrone | 1258 | I
3-methylmethcathinone (2-(methylamino)-1-(3-methylphenyl)propan-1-one) | 1259 | I
N-Ethylamphetamine | 1475 | I
Methiopropamine | 1478 | I
N,N-Dimethylamphetamine | 1480 | I
Fenethylline | 1503 | I
Aminorex | 1585 | I
4-Methylaminorex (cis isomer) | 1590 | I
Ethylphenidate (ethyl 2-phenyl-2-(piperidin-2-yl)acetate) | 1727 | I
Gamma Hydroxybutyric Acid | 2010 | I
Methaqualone | 2565 | I
Mecloqualone | 2572 | I
Etizolam (4-(2-chlorophenyl)-2-ethyl-9-methyl-6H-thieno[3,2-f][1,2,4]triazolo[4,3-a][1,4]diazepine | 2780 | I
lprazolam (8-chloro-6-(2-fluorophenyl)-1-methyl-4Hbenzo[f][1,2,4]triazolo[4,3-a][1,4]diazepine) | 2785 | I
lonazolam (6-(2-chlorophenyl)-1-methyl-8-nitro-4Hbenzo[f][1,2,4]triazolo[4,3-a][1,4]diazepine | 2786 | I
Flubromazolam (8-bromo-6-(2-fluorophenyl)-1-methyl-4H-benzo[f][1,2,4] triazolo[4,3-a][1,4]diazepin- | 2788 | I
Diclazepam (7-chloro-5-(2-chloro-5-(2-chlorophenyl)-1-methyl-1,3-dihydro-2H-benzo[e][1,4]diazepin-2-one | 2789 | I
JWH-250 (1-Pentyl-3-(2-methoxyphenylacetyl) indole) | 6250 | I
SR-18 (Also known as RCS-8) (1-Cyclohexylethyl-3-(2-methoxyphenylacetyl) indole) | 7008 | I
ADB-FUBINACA (N-(1-amino-3,3-dimethyl-1-oxobutan-2-yl)-1-(4-fluorobenzyl)-1H-indazole-3-carboxamide) | 7010 | I
5-Fluoro-UR-144 and XLR11 [1-(5-Fluoro-pentyl)1H-indol-3-yl](2,2,3,3-tetramethylcyclopropyl)methanone | 7011 | I
AB-FUBINACA (N-(1-amino-3-methyl-1-oxobutan-2-yl)- 1-(4-fluorobenzyl)-1H-indazole-3-carboxamide) | 7012 | I
1-(4-Fluorobenzyl)-1H-indol-3-yl)(2,2,3,3-tetramethylcyclopropyl)methanone | 7014 | I
JWH-019 (1-Hexyl-3-(1-naphthoyl)indole) | 7019 | I
MDMB-FUBINACA (Methyl 2-(1-(4-fluorobenzyl)-1H-indazole-3-carboxamido)-3,3-dimethylbutanoate) | 7020 | I
FUB-AMB, MMB-FUBINACA, AMB-FUBINACA (2-(1-(4-fluorobenzyl)-1Hindazole-3-carboxamido)-3-methylbutanoate) | 7021 | I
AB-PINACA (N-(1-amino-3-methyl-1-oxobutan-2-yl)-1-pentyl-1H-indazole-3-carboxamide) | 7023 | I
THJ-2201 [1-(5-fluoropentyl)-1H-indazol-3-yl](naphthalen-1-yl)methanone | 7024 | I
5F-AB-PINACA (N-(1-amino-3-methyl-1-oxobutan-2-yl)-1-(5-fluropentyl)-1H-indazole-3-carboximide) | 7025 | I
ADB-BUTINACA (N-(1-amino-3,3-dimethyl-1-oxobutan-2-yl)-1-butyl-1H-indazole-3-carboxamide | 7027 | I
AB-CHMINACA (N-(1-amino-3-methyl-1-oxobutan-2-yl)-1-(cyclohexylmethyl)-1H-indazole-3-carboxamide | 7031 | I
MAB-CHMINACA (N-(1-amino-3,3dimethyl-1-oxobutan-2-yl)-1-(cyclohexylmethyl)-1H-indazole-3-carboxamide) | 7032 | I
5F-AMB (Methyl 2-(1-(5-fluoropentyl)-1H-indazole-3-carboxamido)-3-methylbutanoate) | 7033 | I
5F-ADB; 5F-MDMB-PINACA (Methyl 2-(1-(5-fluoropentyl)-1H-indazole-3-carboxamido)-3,3-dimethylbutanoate) | 7034 | I
ADB-PINACA (N-(1-amino-3,3-dimethyl-1-oxobutan-2-yl)-1-pentyl-1H-indazole-3-carboxamide) | 7035 | I
5F-EDMB-PINACA (ethyl 2-(1-(5-fluoropentyl)-1H-indazole-3-carboxamido)-3,3-dimethylbutanoate) | 7036 | I
5F-MDMB-PICA (methyl 2-(1-(5-fluoropentyl)-1H-indole-3-carboxamido)-3,3-dimethylbutanoate) | 7041 | I
MDMB-CHMICA, MMB-CHMINACA (Methyl 2-(1-(cyclohexylmethyl)-1H-indole-3-carboxamido)-3,3-dimethylbutanoate) | 7042 | I
MMB-CHMICA, AMB-CHMICA (methyl 2-(1-(cyclohexylmethyl)-1H-indole-3-carboxamido)-3-methylbutanoate) | 7044 | I
FUB-AKB48, FUB-APINACA, AKB48 N-(4-FLUOROBENZYL) (N-(adamantan-1-yl)-1-(4-fluorobenzyl)-1H-indazole-3-carboximide) | 7047 | I
APINACA and AKB48 N-(1-Adamantyl)-1-pentyl-1H-indazole-3-carboxamide | 7048 | I
5F-APINACA, 5F-AKB48 (N-(adamantan-1-yl)-1-(5-fluoropentyl)-1H-indazole-3-carboxamide) | 7049 | I
JWH-081 (1-Pentyl-3-(1-(4-methoxynaphthoyl) indole) | 7081 | I
5F-CUMYL-PINACA, 5GT-25 (1-(5-fluoropentyl)-N-(2-phenylpropan-2-yl)-1H-indazole-3-carboxamide) | 7083 | I
5F-CUMYL-P7AICA (1-(5-fluoropentyl)-N-(2-phenylpropan-2-yl)-1H-pyrrolo[2,3-b]pyridine-3-carboxamide) | 7085 | I
4-CN-CUMYL-BUTINACA (1-(4-cyanobutyl)-N-(2- phenylpropan-2-yl)-1 H-indazole-3-carboxamide) | 7089 | I
4F-MDMB-BUTICA (methyl 2-[[1-(4-fluorobutyl)indole-3- carbonyl]amino]-3,3-dimethyl-butanoate | 7091 | I
ADB-4en-PINACA (N-(1-amino-3,3-dimethyl-1-oxobutan-2-yl)-1-(pent-4-en-1-yl)-1H-indazole-3- carboxamide) | 7092 | I
CUMYL-PEGACLONE (5-pentyl-2-(2-phenylpropan-2-yl)pyrido[4,3-b]indol-1-one) | 7093 | I
5F-EDMB-PICA (ethyl 2-[[1-(5-fluorophentyl)indole-3- carbonyl]amino]-3,3-dimethyl-butanoate | 7094 | I
MMB-FUBICA (methyl 2-(1-(4-fluorobenzyl)-1H-indole3-carboxamido)-3-methyl butanoate | 7095 | I
SR-19 (Also known as RCS-4) (1-Pentyl-3-[(4-methoxy)-benzoyl] indole | 7104 | I
JWH-018 (also known as AM678) (1-Pentyl-3-(1-naphthoyl)indole) | 7118 | I
JWH-122 (1-Pentyl-3-(4-methyl-1-naphthoyl) indole) | 7122 | I
UR-144 (1-Pentyl-1H-indol-3-yl)(2,2,3,3-tetramethylcyclopropyl)methanone | 7144 | I
JWH-073 (1-Butyl-3-(1-naphthoyl)indole) | 7173 | I
JWH-200 (1-[2-(4-Morpholinyl)ethyl]-3-(1-naphthoyl)indole) | 7200 | I
AM2201 (1-(5-Fluoropentyl)-3-(1-naphthoyl) indole) | 7201 | I
JWH-203 (1-Pentyl-3-(2-chlorophenylacetyl) indole) | 7203 | I
NM2201, CBL2201 (Naphthalen-1-yl 1-(5-fluoropentyl)-1H-indole-3-carboxylate | 7221 | I
PB-22 (Quinolin-8-yl 1-pentyl-1H-indole-3-carboxylate) | 7222 | I
5F-PB-22 (Quinolin-8-yl 1-(5-fluoropentyl)-1H-indole-3-carboxylate) | 7225 | I
4-MEAP (4-Methyl-alpha-ethylaminopentiophenone) | 7245 | I
N-Ethylhexedrone | 7246 | I
Alpha-ethyltryptamine | 7249 | I
Ibogaine | 7260 | I
CP-47,497 (5-(1,1-Dimethylheptyl)-2-[(1R,3S)-3-hydroxycyclohexyl-phenol) | 7297 | I
CP-47,497 C8 Homologue (5-(1,1-Dimethyloctyl)-2-[(1R,3S)3-hydroxycyclohexyl-phenol) | 7298 | I
Lysergic acid diethylamide | 7315 | I
2,5-Dimethoxy-4-(n)-propylthiophenethylamine (2C-T-7) | 7348 | I
Marihuana Extract | 7350 | I
Marihuana | 7360 | I
Tetrahydrocannabinols | 7370 | I
Parahexyl | 7374 | I
Mescaline | 7381 | I
2-(4-Ethylthio-2,5-dimethoxyphenyl) ethanamine (2C-T-2 ) | 7385 | I
3,4,5-Trimethoxyamphetamine | 7390 | I
4-Bromo-2,5-dimethoxyamphetamine | 7391 | I
4-Bromo-2,5-dimethoxyphenethylamine | 7392 | I
4-Methyl-2,5-dimethoxyamphetamine | 7395 | I
2,5-Dimethoxyamphetamine | 7396 | I
JWH-398 (1-Pentyl-3-(4-chloro-1-naphthoyl) indole) | 7398 | I
2,5-Dimethoxy-4-ethylamphetamine | 7399 | I
3,4-Methylenedioxyamphetamine | 7400 | I
5-Methoxy-3,4-methylenedioxyamphetamine | 7401 | I
N-Hydroxy-3,4-methylenedioxyamphetamine | 7402 | I
3,4-Methylenedioxy-N-ethylamphetamine | 7404 | I
3,4-Methylenedioxymethamphetamine | 7405 | I
4-Methoxyamphetamine | 7411 | I
5-Methoxy-N-N-dimethyltryptamine | 7431 | I
Alpha-methyltryptamine | 7432 | I
Bufotenine | 7433 | I
Diethyltryptamine | 7434 | I
Dimethyltryptamine | 7435 | I
Psilocybin | 7437 | I
Psilocyn | 7438 | I
5-Methoxy-N,N-diisopropyltryptamine | 7439 | I
4′-Chloro-alpha-pyrrolidinovalerophenone | 7443 | I
MPHP, 4′-Methyl-alpha-pyrrolidinohexiophenone | 7446 | I
N-Ethyl-1-phenylcyclohexylamine | 7455 | I
1-(1-Phenylcyclohexyl)pyrrolidine | 7458 | I
1-[1-(2-Thienyl)cyclohexyl]piperidine | 7470 | I
1-[1-(2-Thienyl)cyclohexyl]pyrrolidine | 7473 | I
N-Ethyl-3-piperidyl benzilate | 7482 | I
N-Methyl-3-piperidyl benzilate | 7484 | I
N-Benzylpiperazine | 7493 | I
4-Methyl-alphapyrrolidinopropiophenone (4-MePPP) | 7498 | I
2-(2,5-Dimethoxy-4-methylphenyl) ethanamine (2C-D) | 7508 | I
2-(2,5-Dimethoxy-4-ethylphenyl) ethanamine (2C-E ) | 7509 | I
2-(2,5-Dimethoxyphenyl) ethanamine (2C-H) | 7517 | I
2-(4-iodo-2,5-dimethoxyphenyl) ethanamine (2C-I) | 7518 | I
2-(4-Chloro-2,5-dimethoxyphenyl) ethanamine (2C-C) | 7519 | I
2-(2,5-Dimethoxy-4-nitro-phenyl) ethanamine (2C-N) | 7521 | I
2-(2,5-Dimethoxy-4-(n)-propylphenyl) ethanamine (2C-P) | 7524 | I
2-(4-Isopropylthio)-2,5-dimethoxyphenyl) ethanamine (2C-T-4 ) | 7532 | I
MDPV (3,4-Methylenedioxypyrovalerone) | 7535 | I
2-(4-bromo-2,5-dimethoxyphenyl)-N-(2-methoxybenzyl) ethanamine (25B-NBOMe) | 7536 | I
2-(4-chloro-2,5-dimethoxyphenyl)-N-(2-methoxybenzyl) ethanamine (25C-NBOMe) | 7537 | I
2-(4-iodo-2,5-dimethoxyphenyl)-N-(2-methoxybenzyl) ethanamine (25I-NBOMe) | 7538 | I
Methylone (3,4-Methylenedioxy-N-methylcathinone) | 7540 | I
Butylone | 7541 | I
Pentylone | 7542 | I
N-Ethypentylone, ephylone (1-(1,3-benzodioxol-5-yl)-2-(ethylamino)-pentan-1-one) | 7543 | I
α-PHP, alpha-Pyrrolidinohexanophenone | 7544 | I
alpha-pyrrolidinopentiophenone (α-PVP) | 7545 | I
alpha-pyrrolidinobutiophenone (α-PBP) | 7546 | I
Ethylone | 7547 | I
Eutylone | 7549 | I
α-PiHP (4-methyl-1-phenyl-2-(pyrrolidin-1-yl)pentan-1- one) | 7551 | I
AM-694 (1-(5-Fluoropentyl)-3-(2-iodobenzoyl) indole) | 7694 | I
Acetyldihydrocodeine | 9051 | I
Benzylmorphine | 9052 | I
Codeine-N-oxide | 9053 | I
Cyprenorphine | 9054 | I
Desomorphine | 9055 | I
Etorphine (except HCl) | 9056 | I
Codeine methylbromide | 9070 | I
Brorphine | 9098 | I
Dihydromorphine | 9145 | I
Difenoxin | 9168 | I
Heroin | 9200 | I
Hydromorphinol | 9301 | I
Methyldesorphine | 9302 | I
Methyldihydromorphine | 9304 | I
Morphine methylbromide | 9305 | I
Morphine methylsulfonate | 9306 | I
Morphine-N-oxide | 9307 | I
Myrophine | 9308 | I
Nicocodeine | 9309 | I
Nicomorphine | 9312 | I
Normorphine | 9313 | I
Pholcodine | 9314 | I
Thebacon | 9315 | I
Acetorphine | 9319 | I
Drotebanol | 9335 | I
U-47700 (3,4-dichloro-N-[2-(dimethylamino)cyclohexyl]-N-methylbenzamide) | 9547 | I
AH-7921 (3,4-dichloro-N-[(1-dimethylamino)cyclohexylmethyl]benzamide)) | 9551 | I
MT-45 (1-cyclohexyl-4-(1,2-diphenylethyl)piperazine)) | 9560 | I
Acetylmethadol | 9601 | I
Allylprodine | 9602 | I
Alphacetylmethadol except levo-alphacetylmethadol | 9603 | I
Alphameprodine | 9604 | I
Alphamethadol | 9605 | I
Benzethidine | 9606 | I
Betacetylmethadol | 9607 | I
Betameprodine | 9608 | I
Betamethadol | 9609 | I
Betaprodine | 9611 | I
Clonitazene | 9612 | I
Dextromoramide | 9613 | I
Isotonitazene | 9614 | I
Diampromide | 9615 | I
Diethylthiambutene | 9616 | I
Dimenoxadol | 9617 | I
Dimepheptanol | 9618 | I
Dimethylthiambutene | 9619 | I
Dioxaphetyl butyrate | 9621 | I
Dipipanone | 9622 | I
Ethylmethylthiambutene | 9623 | I
Etonitazene | 9624 | I
Etoxeridine | 9625 | I
Furethidine | 9626 | I
Hydroxypethidine | 9627 | I
Ketobemidone | 9628 | I
Levomoramide | 9629 | I
Levophenacylmorphan | 9631 | I
Morpheridine | 9632 | I
Noracymethadol | 9633 | I
Norlevorphanol | 9634 | I
Normethadone | 9635 | I
Norpipanone | 9636 | I
Phenadoxone | 9637 | I
Phenampromide | 9638 | I
Phenoperidine | 9641 | I
Piritramide | 9642 | I
Proheptazine | 9643 | I
Properidine | 9644 | I
Racemoramide | 9645 | I
Trimeperidine | 9646 | I
Phenomorphan | 9647 | I
Propiram | 9649 | I
1-Methyl-4-phenyl-4-propionoxypiperidine | 9661 | I
1-(2-Phenylethyl)-4-phenyl-4-acetoxypiperidine | 9663 | I
2-methyl AP-237 (1-(2-methyl-4-(3-phenylprop-2-en-1- yl)piperazin-1-yl)butan-1-one | 9664 | I
Tilidine | 9750 | I
N-desethyl isotonitazene (N-ethyl-2-(2-(4-isopropoxylbenzyl)-5-nitro-1H-benzimidazol-1-yl)ethan-1AMIN | 9760 | I
N-piperidinyl etonitazene (2-(4-ethoxybenzyl)-5-nitro-1- (2-(piperidin-1-yl)ethyl-1H-benzimidazole) | 9761 | I
Acryl fentanyl (N-(1-phenethylpiperidin-4-yl)-N-phenylacrylamide) | 9811 | I
Para-Fluorofentanyl | 9812 | I
3-Methylfentanyl | 9813 | I
Alpha-methylfentanyl | 9814 | I
Acetyl-alpha-methylfentanyl | 9815 | I
N-(2-fluorophenyl)-N-(1-phenethylpiperidin-4-yl)propionamide | 9816 | I
Para-Methylfentanyl | 9817 | I
para-Chlorofentanyl) N-(4-chlorophenyl)-N-(1- phenethylpiperidin-4-yl)propionamide) | 9818 | I
4′-Methyl Acetyl Fentanyl | 9819 | I
Ortho-Methyl Methoxyacetyl Fentanyl | 9820 | I
Acetyl Fentanyl (N-(1-phenethylpiperidin-4-yl)-N-phenylacetamide) | 9821 | I
Butyryl Fentanyl | 9822 | I
Para-fluorobutyryl fentanyl | 9823 | I
4-Fluoroisobutyryl fentanyl (N-(4-fluorophenyl)-N-(1-phenethylpiperidin-4-yl)isobutyramide) | 9824 | I
2-methoxy-N-(1-phenethylpiperidin-4-yl)-N-phenylacetamide | 9825 | I
Para-chloroisobutyryl fentanyl | 9826 | I
Isobutyryl fentanyl | 9827 | I
ortho-Chlorofentanyl (N-(2-chlorophenyl)-N-(1- phenethylpiperidin-4-yl)propionamide) | 9828 | I
Beta-hydroxyfentanyl | 9830 | I
Beta-hydroxy-3-methylfentanyl | 9831 | I
Alpha-methylthiofentanyl | 9832 | I
3-Methylthiofentanyl | 9833 | I
Furanyl fentanyl (N-(1-phenethylpiperidin-4-yl)-N-phenylfuran-2-carboxamide) | 9834 | I
Thiofentanyl | 9835 | I
Beta-hydroxythiofentanyl | 9836 | I
Para-methoxybutyryl fentanyl | 9837 | I
Ocfentanil | 9838 | I
Thiofuranyl Fentanyl | 9839 | I
Valeryl fentanyl | 9840 | I
Phenyl fentanyl | 9841 | I
Beta′-Phenyl fentanyl | 9842 | I
N-(1-phenethylpiperidin-4-yl)-N-phenyltetrahydrofuran-2-carboxamide | 9843 | I
Crotonyl Fentanyl | 9844 | I
Cyclopropyl Fentanyl | 9845 | I
Ortho-Fluorobutyryl Fentanyl | 9846 | I
Cyclopentyl Fentanyl | 9847 | I
Ortho-Methyl Acetylfentanyl | 9848 | I
ortho-Methylcyclopropylfentanyl (N-(2-methylphenyl)-N-(1-phenethylpiperidin-4-yl)cyclopropanecarboxamide | 9849 | I
Fentanyl related-compounds as defined in 21 CFR 1308.11(h) | 9850 | I
Fentanyl Carbamate | 9851 | I
Ortho-Fluoracryl Fentanyl | 9852 | I
Ortho-Fluoroisobutyryl Fentanyl | 9853 | I
Para-Fluoro Furanyl Fentanyl | 9854 | I
2′-Fluoro ortho-fluorofentanyl | 9855 | I
Beta-Methyl Fentanyl | 9856 | I
meta-Fluorofentanyl (N-(3-fluorophenyl)-N-(1-phenethylpiperidin-4-yl)propionamide) | 9857 | I
meta-Fluoroisobutyryl fentanyl (N-(3-fluorophenyl)-N-(1-phenethylpiperidin-4-yl)isobutyramide) | 9858 | I
para-Methoxyfuranyl fentanyl (N-(4-methoxyphenyl)-N-(1-phenethylpiperidin-4-yl)furan-2-carboxamide) | 9859 | I
3-Furanyl fentanyl (N-(1-phenethylpiperidin-4-yl)-N-phenylfuran-3-carboxamide) | 9860 | I
2′,5′-Dimethoxyfentanyl (N-(1-(2,5-dimethoxyphenethyl)piperidin-4-yl)-N-phenylpropionamide) | 9861 | I
Isovaleryl fentanyl (3-methyl-N-(1-phenethylpiperidin-4-yl)-N-phenylbutanamide) | 9862 | I
ortho-Fluorofuranyl fentanyl (N-(2-fluorophenyl)-N-(1- phenethylpiperidin-4-yl)furan-2-carboxamide) | 9863 | I
alpha′-Methyl butyryl fentanyl (2-methyl-N-(1-phenethylpiperidin-4-yl)-N-phenylbutanamide) | 9864 | I
para-Methylcyclopropylfentanyl (N-(4-methylphenyl)-N-(1-phenethylpiperidin-4-yl)cyclopropanecarboxamide) | 9865 | I
beta-Methylacetyl fentanyl (N-phenyl-N-(1-(2-phenylpropyl)piperidin-4-yl)acetamide) | 9868 | I
Tetrahydrothiofuranyl fentanyl (N-(1-phenethylpiperidin4-yl)-N-phenyltetrahydrothiophene-2-carboxamide) | 9869 | I
para-Fluoro valeryl fentanyl (N-(4-fluorophenyl)-N-(1-phenethylpiperidin-4-yl)pentanamide) | 9870 | I
meta-Fluorofuranyl fentanyl (N-(3-fluorophenyl)-N-(1- phenethylpiperidin-4-yl)furan-2-carboxamide) | 9871 | I
Zipeprol (1-methoxy-3[-4-(2-methoxy-2- phenylethyl)piperazin-1-yl]-1-phenylpropan-2-ol) | 9873 | I
Amphetamine | 1100 | II
Methamphetamine | 1105 | II
Lisdexamfetamine | 1205 | II
Phenmetrazine | 1631 | II
Methylphenidate | 1724 | II
Amobarbital | 2125 | II
Pentobarbital | 2270 | II
Secobarbital | 2315 | II
Glutethimide | 2550 | II
Nabilone | 7379 | II
1-Phenylcyclohexylamine | 7460 | II
Phencyclidine | 7471 | II
4-Anilino-N-phenethyl-4-piperidine (ANPP) | 8333 | II
Norfentanyl | 8366 | II
Phenylacetone | 8501 | II
1-Piperidinocyclohexanecarbonitrile | 8603 | II
Alphaprodine | 9010 | II
Anileridine | 9020 | II
Cocaine | 9041 | II
Codeine | 9050 | II
Etorphine HCl | 9059 | II
Dihydrocodeine | 9120 | II
Oxycodone | 9143 | II
Hydromorphone | 9150 | II
Diphenoxylate | 9170 | II
Ecgonine | 9180 | II
Ethylmorphine | 9190 | II
Hydrocodone | 9193 | II
Levomethorphan | 9210 | II
Levorphanol | 9220 | II
Isomethadone | 9226 | II
Meperidine | 9230 | II
Meperidine intermediate-A | 9232 | II
Meperidine intermediate-B | 9233 | II
Meperidine intermediate-C | 9234 | II
Metazocine | 9240 | II
Oliceridine | 9245 | II
Methadone | 9250 | II
Methadone intermediate | 9254 | II
Metopon | 9260 | II
Dextropropoxyphene, bulk (non-dosage forms) | 9273 | II
Morphine | 9300 | II
Oripavine | 9330 | II
Thebaine | 9333 | II
Dihydroetorphine | 9334 | II
Levo-alphacetylmethadol | 9648 | II
Oxymorphone | 9652 | II
Noroxymorphone | 9668 | II
Phenazocine | 9715 | II
Thiafentanil | 9729 | II
Piminodine | 9730 | II
Racemethorphan | 9732 | II
Racemorphan | 9733 | II
Alfentanil | 9737 | II
Remifentanil | 9739 | II
Sufentanil | 9740 | II
Carfentanil | 9743 | II
Tapentadol | 9780 | II
Bezitramide | 9800 | II
Fentanyl | 9801 | II
Moramide-intermediate | 9802 | II

The company plans to bulk manufacture the listed controlled substances for distribution as reference standards to its customers. In reference to drug codes 7360 (Marihuana), and 7370 (Tetrahydrocannabinols), the company plans to bulk manufacture these drugs as synthetic. No other activities for these drug codes are authorized for this registration.

Justin Wood,
Acting Deputy Assistant Administrator.

[FR Doc. 2025-15115 Filed 8-7-25; 8:45 am]

BILLING CODE P